DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: 2014 Survey of Income and Program Participation (SIPP) Panel.

OMB Control Number: None.

Form Number(s): SIPP-105(L)2014—Director's Letter; SIPP-105(L)(SP)2014— Director's Letter Spanish; SIPP/CAPI Automated Instrument.

Type of Request: New collection.

Burden Hours: 73,500.

Number of Respondents: 73,500.

Average Hours per Response: 1 hour.

Needs and Uses: The Census Bureau plans to conduct the 2014 Survey of Income and Program Participation (SIPP) Panel in four waves beginning in February 2014. The Census Bureau's SIPP computer-assisted personal interviewing (CAPI) will use an Event History Calendar (EHC) interviewing method and a 12-month, calendar-year reference period in place of the current SIPP questionnaire approach that uses a sliding 4-month reference period. The Census Bureau is re-engineering the SIPP to accomplish several goals including re-engineering the collection instrument and processing system, development of the EHC in the instrument, use of administrative records data where feasible, and increased stakeholder interaction.

The main objective of the SIPP has been, and continues to be, to provide accurate and comprehensive information about the income and program participation of individuals and households in the United States. The survey's mission is to provide a nationally representative sample for evaluating: (1) Annual and sub-annual income dynamics; (2) movements into and out of government transfer programs; (3) family and social context of individuals and households; and (4) interactions among these items. A major use of the SIPP has been to evaluate the use of and eligibility for government programs and to analyze the impacts of modifications to those programs. The re-engineering of SIPP pursues these objectives in the context of several goals including cost reduction, improved accuracy, increased relevance and timeliness, reduced burden on respondents, and increased accessibility. The 2014 SIPP Panel will collect detailed information on cash and non-cash income (including participation in government transfer programs) once per year.

A key component of re-engineering the SIPP is a shift from the every-four-month data collection schedule of historical SIPP (most recently in the 2008 Panel) to an annual data collection schedule for the re-engineered survey. To accomplish this shift with minimal impact on data quality, the Census Bureau will use an EHC based instrument to gather SIPP data. The EHC is intended to help respondents recall information in a more natural “autobiographical” manner by using life events as triggers to recall other economic events. For example, a residence change may often occur contemporaneously with a change in employment. The entire process of compiling the calendar focuses, by its nature, on consistency and sequential order of events, and attempts to correct for otherwise missing data. For example, unemployed respondents may undertake a lengthy job search before successfully finding employment. The EHC allows recording dates of events and spells of coverage and will provide measures of monthly transitions of program receipt and coverage, labor force transitions, health insurance transitions, and others. The EHC was previously used in the 2010, 2011, 2012, and 2013 SIPP-EHC field tests. Results from the 2010-2013 Field Tests and the 2008 SIPP Panel were used to inform final decisions regarding the design, content, and implementation of the 2014 SIPP Panel. The content of the 2014 SIPP Panel will match that of the 2013 SIPP-EHC very closely. The 2014 SIPP Panel design does not contain freestanding topical modules as in the prior production SIPP instruments; however, a portion of traditional SIPP topical module content is integrated into the main body of the 2014 SIPP interview.

The start of the 2014 SIPP Panel was scheduled at the earliest possible start (February 2014) that would allow the use of a 2010 Census based sample. The 2014 SIPP Panel wave 1 will interview respondents using the previous calendar year 2013 as the reference period and will proceed with annual interviewing going forward. The 2014 SIPP Panel will use a revised interviewing method structure that will follow persons aged 15 years and older who move from the prior wave household. Consequently, future waves will incorporate dependent data, which is information collected from the prior wave interview brought forward to the current interview.

The Census Bureau plans to use Computer Assisted Recorded Interview (CARI) technology during the 2014 SIPP Panel. CARI is a data collection method that captures audio along with response data during computer-assisted personal and telephone interviews (CAPI & CATI). With the respondent's consent, a portion of each interview is recorded unobtrusively and both the sound file and screen images are returned with the response data to a central location for coding. By reviewing the recorded portions of the interview, quality assurance analysts can evaluate the likelihood that the exchange between the field representative and respondent is authentic and follows critical survey protocol as defined by the sponsor and based on best practices. Additionally, the recordings will be reviewed to develop standards for coaching interviewers and develop options to use them as supplements to both in-person observation and reinterview. The 2014 SIPP Panel instrument will utilize the CARI Interactive Data Access System (CARI System), an innovative, integrated, multifaceted monitoring system that features a configurable web-based interface for behavior coding, quality assurance, and coaching. This system assists in coding interviews for measuring question and interviewer performance and the interaction between interviewers and respondents.

The 2014 SIPP Panel Wave 1 instrument will be evaluated in several domains including field implementation issues and data comparability vis-à-vis the 2008 SIPP Panel and administrative records. Distributional characteristics such as the percent of persons receiving Temporary Assistance for Needy Families (TANF), Food Stamps, Medicare, who are working, who are enrolled in school, or who have health insurance coverage reported in the EHC will be compared to the same distributions from the 2008 SIPP Panel. The primary focus will be to examine the quality of data that the new instrument yields for low-income programs relative to the current SIPP and other administrative sources. The 2014 SIPP Panel sample is nationally representative, with an oversample of low-income areas in order to increase the ability to measure participation in government programs. In general, there are two ways we will evaluate data quality:

First, we will compare monthly estimates from the 2014 SIPP Panel to estimates from the 2008 SIPP Panel for characteristics such as participation in Food Stamps, TANF, Supplemental Security Income (SSI), the Special Supplemental Nutrition Program for Women, Infants, and Children (WIC), and Medicaid. We plan to conduct a rigorous statistical analysis using the model established for the 2010-2013 SIPP-EHC evaluations, where data from the 2008 Panel and 2010-2013 SIPP-EHC for the previous calendar years were mapped to a common analysis standard. The tests of significance conducted for the differences in monthly participation levels, identification of patterns of significance, and the likelihood of transition will again be applied to the 2013 calendar year comparison mapped data. Additional content will be included in the mapped data to expand the comparisons beyond the focus of the EHC section of the instrument comparisons made with the SIPP-EHC field tests. As with the 2010-2013 SIPP-EHC field tests, we will also compare paradata related to interview performance (interview length and non-response) by region, interviewer and household characteristics, and training performance as measured by the certification test.

Second, for a small subset of characteristics, and for a subset of sample areas, we will have access to administrative record data, which should allow for a more objective data quality assessment of the validity of the survey estimates for respondents matched to administrative data. The acquisition of administrative data from national sources and especially from states is difficult and time consuming. We continue to work with Texas, Maryland, Illinois, and Wisconsin to acquire state-level data (primarily focused on Food Stamps or the Supplemental Nutrition Assistance Program (SNAP) and TANF), and additional state discussions are in progress. From national-level administrative records, we are working to acquire additional data from the Internal Revenue Service, the detailed and summary earnings records, Old-Age, Survivors, and Disability Insurance (OASDI), SSI, Medicare, and Medicaid (from Centers for Medicare and Medicaid services (CMS)). To the extent that data can be obtained in a timely way for calendar year 2013 we will include validation evaluations of the responses given both in the 2008 Panel and the 2014 SIPP Panel Wave 1 data. These administrative data can tell us the rate of both false positive and false negative reporting, as well as some indication of the accuracy of the timing of reports. The ability to make effective comparisons with administrative data is dependent on the match rate of administrative data to SIPP and re-engineered SIPP data, the timing of the receipt of the data, and the accuracy and quality of the administrative records. This project will continue to show the importance of developing systems that can integrate administrative reports with survey data.

This OMB clearance request is for the full 2014 SIPP Panel (Waves 1, 2, 3, and 4). Wave 1 of the SIPP 2014 Panel will be conducted from February to May of 2014. Wave 2 is scheduled to be conducted from January to April of 2015. Wave 3 is scheduled to be conducted from January to April of 2016. Wave 4 is scheduled to be conducted from January to April of 2017. Approximately 52,000 households will be sampled to be interviewed for the 2014 Panel. From these sampled households, we expect approximately 35,000 interviewed households. We estimate that each household contains 2.1 people aged 15 and above, yielding approximately 73,500 person-level interviews per wave in this panel. Interviews take approximately 60 minutes per adult on average, consequently the total annual burden for 2014 SIPP-EHC interviews will be 73,500 hours per year in FY 2014, 2015, 2016, and 2017.

Affected Public: Individuals or households.

Frequency: Annually.

Respondent's Obligation: Voluntary.

Legal Authority: Title 13 U.S.C., Section 182.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: September 27, 2013.
Glenna Mickelson,
Management Analyst, Office of the Chief Information Officer.

[FR Doc. 2013-24028 Filed 10-1-13; 8:45 am]

BILLING CODE 3510-07-P